DEPARTMENT OF ENERGY

Federal Energy Regulatory Commission

[Docket No. CP01-409-000]

Calypo U.S. Pipeline, LLC; Notice of Intent To Prepare an Environmental Assessment for the Proposed Modifications to the Calypso U.S. Pipeline Project and Request for Comments on Environmental Issues

June 9, 2006.

The staff of the Federal Energy Regulatory Commission (FERC or Commission) and the Minerals Management Service (MMS) will prepare an environmental assessment (EA) that will discuss the environmental impacts of the Modifications to the Calypso U.S. Pipeline Project (Project) proposed by Calypso U.S. Pipeline, LLC (Calypso) in Broward County, Florida, State Waters of Florida, and Federal Waters of the United States.¹ The Tractebel Calypso Pipeline Project received a Certificate of Public Convenience and Necessity from the Commission on March 24, 2004 in Docket Nos. CP01-409-000, et al. Calypso was formerly named Tractebel Calypso Pipeline, LLC, and hereafter the name “Calypso” is used to refer to the applicant for the proposed Project, including references to activities that occurred before Calypso's name change. Calypso has now proposed modifications to their original proposal, and those proposed modifications will be reviewed by Commission and MMS staff. The Project modifications reflect the incorporation of tunnel construction methodology for the nearshore portion of the pipeline, as well as certain other design changes, for the natural gas pipeline between the United States and the Bahamas. This EA will be used by the Commission in its decision-making process to determine whether the Project modifications are in the public convenience and necessity. The MMS will have primary responsibility for offshore analysis in U.S. waters and will coordinate with the U.S. Army Corps of Engineers regarding Florida State waters review.

¹ Calypso's application was filed with the Commission on May 9, 2006, pursuant to section 7 of the Natural Gas Act (NGA) and part 157 and part 284 of the Commission's Regulations.

The FERC is the lead agency and the MMS is a federal cooperating agency for the Project because the MMS has jurisdiction by law, as well as special expertise, regarding the potential environmental impacts associated with that portion of the proposed pipeline that would be installed on the Outer Continental Shelf.

This notice is being sent to affected landowners; Federal, state, and local government agencies; elected officials; environmental and public interest groups; Native American tribes; local libraries and newspapers; and other parties that expressed an interest in the original project and received a copy of FERC's Final Environmental Impact Statement for the Tractebel Calypso Pipeline Project (issued January 23, 2004). The notice is also being sent to all identified potential right-of-way grantors. No new landowners are affected by the proposed modifications.

If you are a landowner receiving this notice, you may be contacted by a Calypso representative about the acquisition of an easement to construct, operate, and maintain the proposed Project facilities. The pipeline company would seek to negotiate a mutually acceptable agreement. However, if the Project is approved by the FERC, that approval conveys with it the right of eminent domain. Therefore, if easement negotiations fail to produce an agreement, the pipeline company could initiate condemnation proceedings in accordance with state law.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Project

As certificated, the Calypso Project would consist of a new 24-inch-diameter interstate natural gas pipeline, and certain ancillary facilities, that would extend approximately 42.5 miles from a receipt point on the Exclusive Economic Zone (EEZ) boundary between the United States and the Bahamas to an interconnect with the existing Florida Gas Transmission System (FGT) pipeline at the Florida Power and Light (FPL) Fort Lauderdale Power Plant in Broward County, Florida. Calypso's proposed modifications reflect the incorporation of tunnel construction methodology for the nearshore portion of the pipeline, as well as certain other design changes. Calypso developed the proposed modifications to enhance flexibility for gas deliveries to FGT and address certain delays that it has encountered in meeting its initially proposed construction schedule.

Calypso explains that the use of the tunnel construction methodology would allow it to construct the nearshore portion of the pipeline using an approximately 3.2-mile-long tunnel, with certain minor route changes to accommodate the methodology, as opposed to the series of horizontal directional drills (HDDs) that the Commission has already approved. Calypso also proposes to increase the pipeline diameter from 24 inches to 30 inches and internally coat the pipeline, to allow for increased hourly flow rates, but does not propose to increase the certificated capacity (832,000 dekatherms/day) or the maximum operating pressure (MAOP) of its pipeline. Though the MAOP would remain 2,200 pounds per square inch gauge (psig), Calypso indicates that the pipeline would most likely be operated at approximately 1,530 psig. The onshore aboveground facilities would be identical to the certificated Project with the exception of newly proposed tunnel shaft access facilities and relocation of the underground block valve facility from the certificated landfall point at John U. Lloyd Beach State Park to the modified landfall point within Port Everglades.

Calypso designed the proposed tunnel installation to further minimize the potential for direct impacts and the risk of inadvertent impacts to sensitive marine resources, particularly the hardbottom and coral reef resources that occur in the nearshore environment of the Project area. The proposed tunnel modification would replace previously certificated plans to perform an HDD of the Port Everglades Turning basin and two HDDs beneath the nearshore reef systems, with the latter two HDDs connected by an open-cut trench through the a dredged material disposal site referred to as the submerged breakwater spoil area (SBSA). The tunnel modification would avoid the need for offshore construction workspaces within the SBSA and to the west of the dominant reef trends. Calypso indicates that elimination of those offshore workspaces would minimize direct impacts and significantly reduce the potential for inadvertent impacts in proximity to the reefs (e.g., unanticipated spills, anchor impacts, work vessel passage over reefs, etc.). Additionally, Calypso states that the equipment used to construct the tunnel would not use drilling fluids under high pressure, thereby minimizing the potential risk of an inadvertent release of drilling muds, or frac-out, which could potentially have occurred in association with the HDD installation methodology.

The proposed tunnel would extend from an entrance point to the north of Spangler Boulevard within Port Everglades (milepost [MP] 36.8), to an exit point on the sea floor where the water depth is approximately 126 feet deep, seaward of the mapped edge of the easternmost reef trend. A 20-foot by 50-foot, 210-foot-deep entrance shaft would be constructed at the tunnel entry point. From that point, a slurry shield tunnel boring machine (TBM) would be used to construct a watertight, approximately 16,900-foot-long, 10-foot-internal diameter, concrete-lined tunnel. Following completion of tunnel construction, all operating machinery would be removed from the TBM, but the TBM shield and steel case would be left in place. Once complete, the tunnel would provide a conduit for installation of the nearshore portion of the pipeline. The pipeline string to be installed within the tunnel would be assembled inside the tunnel.

At the end of the tunnel (MP 33.6), a single basin measuring approximately 20 feet deep, 75 feet long, and 60 feet wide, would be dredged over the top of the tunnel endpoint to facilitate connection between the tunnel and offshore, direct lay segments of the proposed pipeline. At the end of the tunnel, a 60-inch-diameter steel casing would be drilled from above into the tunnel lining, and a vertical pipeline riser would be installed within the casing. A riser casing head box would be installed over the riser and casing within the dredged basin, and the connection to the offshore, direct lay portion of the pipeline would be accomplished inside the riser casing head box. Beyond the tunnel exit point, the pipeline would be installed on the seafloor using specialized pipelay barges, as described in the final Environmental Impact Statement prepared for the Calypso Pipeline Project.

Following pipeline installation, the dredged basin would be backfilled with at least three feet of clean calcium carbonate (limestone) with the uppermost 18 inches of backfill consisting of approximately 1- to 2-foot-diameter lime rock cobbles. Articulated concrete mats would be used to cover and protect the approximately 1,700-foot-long segment of the pipeline extending from the dredged basin to a water depth of 200 feet. Between depths of 200 and 1,000 feet, the pipeline would be coated with concrete for on-bottom stability and protection. At depths greater than 1,000 feet, the pipeline would not be covered, but would be coated for corrosion protection and designed with a heavier wall thickness for on-bottom stability.

No onshore alignment changes would be required in association with the proposed modifications west of the proposed landfall in Port Everglades. Calypso has slightly revised its proposed nearshore route to accommodate the tunnel installation methodology and to minimize construction activities outside the tunnel. The revised nearshore route would reduce the length of the proposed pipeline by approximately 0.2 mile, but would not differ substantively in alignment from the certificated Project route. However, as a result of the proposed changes, a pipeline alignment through, and construction work areas within, John U. Lloyd Beach State Park would be completely avoided. Seaward of the tunnel exit point, the previously authorized offshore Project route would be unchanged by the proposed modifications.

The previously certificated facilities, as modified by the Calypso proposal, are summarized in Table 1 below, and the proposed alignment of the modified nearshore Project facilities is depicted in Appendix 1.² If you are interested in obtaining detailed maps of a specific portion of the Project, submit your request using the form in Appendix 2.

² The appendices referenced in this notice are not being printed in the Federal Register. Copies of all appendices, other than Appendix 1 (map), are available on the Commission's Web site at the “eLibrary” link or from the Commission's Public Reference Room, 888 First Street, NE., Washington, DC 20426, or call (202) 502-8371. For instructions on connecting to eLibrary refer to the Public Participation section of this notice. Copies of the appendices were sent to all those receiving this notice in the mail.

Table 1.—Calypso U.S. Pipeline Project Summary of Previously Authorized Project Facilities as Modified by the Current Proposal
Facility | Pipeline diameter | Approximate length (miles) ¹ | Milepost | Location/jurisdiction
Pipeline Facilities:
Offshore pipeline | 30-inch* | 31.6 | 0.0 to 31.6 | U.S. Federal Waters.
Offshore pipeline | 30-inch* | 5.3* | 31.6 to 36.8* | Florida State Waters.
Onshore pipeline | 30-inch* | 5.5* | 36.8 to 42.3* | Broward County.
Total Length ² |  | 42.3 |  |
Aboveground Facilities:
Tunnel shaft access* | N/A | N/A | 36.8* | Broward County.
Block valve (below ground) | N/A | N/A | 36.9* | Broward County.
Meter and pressure regulation station | N/A | N/A | 42.2 | Broward County.
Block valve | N/A | N/A | 42.3 | Broward County.
Notes:
N/A = not applicable.
*Denotes Project facilities or characteristics included in the proposed modification and that would differ from the certificated facilities.
¹ Approximate length provided in statute miles. Total values may not be additive due to rounding.
² Does not include 53.9 miles of nonjurisdictional pipeline that would be constructed in waters between the Bahamas and the Exclusive Economic Zone boundary.

Land Requirements for Construction

As a result of the tunnel installation methodology, Calypso indicates that the total area of seafloor affected by pipeline installation would be reduced from approximately 15.9 acres to approximately 11.2 acres. The portion of the pipeline in State of Florida territorial waters (MP 31.6 to MP 36.8) would be constructed within a 25-foot-wide right-of-way, which would be permanently retained for pipeline operation and maintenance. The alignment and width of the proposed 200-foot-wide construction and operational right-of-way for the offshore segment of the pipeline in Federal waters (MP 0.0 to MP 31.6) would be unaffected by the proposed modifications.

Other than the change in the landfall point for the pipeline, Calypso is not proposing any alignment changes to the onshore portion of the Project. Calypso does not anticipate that the increase in diameter of the pipeline from 24 inches to 30 inches would affect the size of the onshore construction or permanent rights-of-way. As described in the Final EIS, pipe storage and contractor yard land requirements would total approximately 15 acres. However, Calypso now indicates that those facilities, which would be located off of Eisenhower Boulevard, south of Spangler Boulevard, within the South Port area of Port Everglades, would also be used for temporary storage of spoils removed from the tunnel. Temporary construction work at the tunnel entry point along Spangler Boulevard would total approximately 0.9 acres. In addition, a temporary concrete segment fabrication batch plant would be required to fabricate the tunnel concrete segments, but Calypso has not yet identified the actual location or land requirements for that facility. With the exception of Calypso's temporary concrete-segment fabrication batch plant facility and the construction work area at the tunnel entry point, the onshore construction activities west of the tunnel entry point would not deviate from the certificated land requirements for extra work areas.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ³ will discuss impacts that could occur as a result of the construction and operation of the proposed Project under these general headings:

³ “We”, “us”, and “our” refer to the environmental staff of the Office of Energy Projects (OEP).

• Geology;

• Soils and sediments;

• Water resources;

• Marine biological resources;

• Endangered and threatened species;

• Land use and visual resources;

• Cultural resources;

• Socioeconomics;

• Air quality and noise;

• Reliability and safety; and

• Cumulative impacts.

We will not discuss impacts to certain resource areas since they are not present in the Project area, or would not be affected by the proposed facilities in a manner substantially different than has already been evaluated in the certificated Project. These resource areas include:

• Vegetation and wetlands;

• Onshore fish and wildlife;

• Recreation; and

• Alternatives.

Our independent analysis of the issues will be included in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section of this notice.

Currently Identified Environmental Issues

FERC staff attended a public open house (informational meeting) sponsored by Calypso on April 12, 2006, in the Project area. The issues and concerns identified by the commentors during that meeting will be considered in the preparation of the EA. In addition, FERC staff will also participate in an interagency meeting on June 27, 2006, to discuss the proposed Project and its associated environmental review process with key federal and state agencies.

We have already identified several issues that we think deserve attention based on a preliminary review of the proposed facilities and the environmental information provided by Calypso. This preliminary list of issues may be changed based on your comments and our analysis. The issues include:

• Fishery resources and benthic communities, especially relating to potential impacts to marine hardbottom habitats and coral reef resources;

• Water resources, including the potential for sedimentation and/or turbidity effects associated with dredging activities at the eastern terminus of the tunnel;

• Tunnel stability and the potential for subsidence;

• Aquatic toxicity of soil conditioners used during tunnel construction;

• Potential impacts to operations at the U.S. Navy's Naval Surface Warfare Center, Carderrock Division (NSWCCD) resulting from the proposed modifications;

• Increased onshore vehicle traffic and congestion associated with the proposed modified installation method;

• Safety and security of the proposed modifications; and

• Potential cumulative effects of the deepwater port project proposed by an affiliate of Calypso.

Calypso indicates that the proposed tunnel modification would further avoid or minimize impacts to the nearshore reef systems and significantly reduce the risk of unanticipated impacts, as compared to the HDD construction methodology authorized by the FERC certificate. Table 2 summarizes and compares the anticipated direct and indirect marine habitat impacts associated with the proposed modifications to those associated with the HDD construction methodology. Specifically, the landfall HDD exit point, the reef HDD entry point, and the 2,132-foot-long open-cut trench through the SBSA would be eliminated under the proposed modification. Additionally, the pipestrings that would have been assembled, dragged, and pulled back into the landfall and reef HDDs would be eliminated. Because these elements of the Project and their associated construction workspaces would be eliminated, Calypso indicates that the tunnel modification would significantly reduce direct impacts and the risk of inadvertent impacts in proximity to the reefs. Further, Calypso states that the TBM would not use drilling fluids under high pressure, thereby minimizing the potential risk of a frac-out, which could potentially have occurred in association with the HDD installation methodology.

The proposed tunnel installation methodology also greatly reduces the potential for turbidity and sedimentation generating activities. As mentioned above, the tunnel modification would avoid dredging of entry and exit pits for the reef and landfall HDDs, respectively, as well as the open-cut trench through the SBSA. Additionally, Calypso would further minimize the extent of required dredging activities by abandoning the TBM in place rather than recovering it. Although the proposed tunnel installation methodology would require dredging to excavate a basin at the tunnel exit point, the extent of dredging activities would be the same as that required for the previously approved reef HDD exit point. Calypso would therefore use its previous estimates for turbidity and sedimentation associated with the HDD installation exit point as a means of estimating indirect impacts to marine resources for the proposed tunnel modification. Calypso would also continue with its plans to monitor for potential unanticipated environmental damage resulting from sedimentation and turbidity during construction.

Table 2.—Calypso U.S. Pipeline Project Comparison of Total Marine Benthic Impacts as Modified by the Current Proposal ¹
Habitat type | Certificated HDD installation method: Permanent direct impact (acres) | Certificated HDD installation method: Temporary indirect impact (acres) | Proposed tunnel installation method: Permanent direct impact (acres) | Proposed tunnel installation method: Temporary indirect impact (acres)
First Reef | 0.00 | 0.00 | 0.00 | 0.00
Submerged Breakwater Spoil Area | 1.46 | 2.80 | 0.00 | 0.00
Second Reef | 0.00 | 0.00 | 0.00 | 0.00
Second Reef—Sand | 0.12 | 0.00 | 0.00 | 0.00
Third Reef | 0.02 | 0.00 | 0.00 | 0.00
Third Reef—Sand | 0.14 | 0.00 | 0.00 | 0.00
Third Reef Transitional | 1.41 | 0.32 | 0.99 | 0.20
Third Reef Transitional/Crater Zone Overlap | 0.07 | 0.00 | 0.02 | 0.00
Crater Zone | 0.54 | 0.00 | 0.15 | 0.00
Crater Zone/White Cerianthid Overlap | 0.13 | 0.00 | 0.12 | 0.00
White Cerianthid Zone | 0.24 | 0.00 | 0.28 | 0.00
White Cerianthid/Textured Sediment Overlap | 0.00 | 0.00 | 0.00 | 0.00
Textured Sediment Zone | 0.08 | 0.00 | 0.07 | 0.00
Sand/Uncolonized Bottom | 7.95 | 0.58 | 9.39 | 0.00
Subtotal | 12.16 | 3.7 | 11.02 | 0.20
Total Impact ²: | 15.86 |  | 11.22
¹ For comparative purposes, both scenarios exclude those impacts associated with geotechnical investigations. Total marine benthic impacts resulting from geotechnical investigations were estimated as 0.34 acres in the Final EIS, but the reported total marine benthic impacts for that investigation were 0.31 acres.
² Total impact includes estimated additive effect of both temporary and permanent impacts.

Calypso has reported that after review of existing geotechnical information, as well as consultation with tunneling experts, there appears to be no major constructability issues that would constrain successful completion of the proposed tunnel. During tunnel construction, Calypso would implement various measures to stabilize the tunnel, monitor operations, and minimize the potential for tunnel collapse. Pre-fabricated concrete segments designed to withstand internal and external loading forces would be used to stabilize the tunnel as the TBM advances. The Commission will evaluate the feasibility of the proposed tunnel modification in consideration of site-specific geologic conditions and experience gained from other tunneling projects.

The U.S. Navy's NSWCCD is located in proximity to the proposed nearshore pipeline route. The NSWCCD uses systems that are highly sensitive to magnetic interference and that could be affected by the proposed pipeline Project. In order to address the Navy's concerns, Calypso previously proposed to construct approximately 2.6 miles of its pipeline using stainless steel pipe. Under the proposed modification, Calypso would change the pipeline materials for that portion of the Project route back to carbon steel. Calypso is coordinating the proposed modifications with the NSWCCD and anticipates amending the September 2003 Memorandum of Agreement with NSWCCD to accommodate technical issues related to the proposed modifications.

Spoil materials removed from the tunnel would be loaded on trucks at the construction work area north of Spangler Boulevard and stockpiled temporarily at the contractor yard along McIntosh Drive before being removed offsite for disposal. Calypso estimates that about 7,930 cubic yards of spoil would be removed to construct the tunnel shaft and about 83,600 cubic yards of spoil would be removed to construct the tunnel. The tunnel shaft would be located in an area historically associated with industrial activities, and therefore soils encountered during excavation activities could be contaminated. Similarly, the TBM could require the use of soil conditioners to stabilize the tunnel face during excavation activities, which could contaminate spoil materials removed during tunneling activities. Calypso anticipates that proper testing and/or handling of tunnel shaft and tunnel spoils would prevent any potential degradation of soil, surface water, or ground water quality.

The pre-fabricated concrete segments used to line the tunnel and the pipeline segments to be installed within the tunnel would be delivered to the Spangler Boulevard construction site. This activity in combination with the removal of spoil from the site could impact local traffic flow patterns. These activities would generate an increased volume of traffic through the duration of the tunnel boring and pipeline installation process, which is expected to last approximately 16 months. Calypso would coordinate with Port Everglades and other local authorities to ensure that construction activities avoid or minimize any impact to the local traffic flow. Calypso may also be required to complete a traffic study to gauge the anticipated increased truck traffic in and around the Spangler Boulevard work area associated with implementation of the proposed installation modifications. If required, Calypso would file the traffic study with FERC once the study is complete.

The pipeline and ancillary facilities associated with the proposed Project would be designed, constructed, operated, and maintained in accordance with the U.S. Department of Transportation Minimum Federal Safety Standards in 49 CFR part 192, and any other applicable safety standards. These standards govern the distance between sectionalizing block valves and require the pipeline owner to install cathodic protection, use other corrosion-preventing procedures, and perform various maintenance activities. During construction, pipeline weld inspections and hydrostatic tests would be conducted to verify pipeline integrity and ensure the pipeline's ability to withstand the maximum designed operating pressure. Additionally, the proposed tunnel would be designed, constructed, installed, inspected, operated, and maintained, as applicable, in accordance with applicable U.S. Department of Labor, Occupational Health and Safety Administration, and local building code requirements. Precautions would also be taken to ensure that the facilities associated with the proposed modifications are secured during operation. The tunnel shaft access point that would be located north of Spangler Boulevard, would be enclosed by a fenced area and sited within the secured limits of Port Everglades.

The nonjurisdictional facilities associated with the previously certificated Calypso Project, which consist of a pipeline and liquefied natural gas (LNG) terminal and regasification facility that would be located within the jurisdiction of the Bahamian government, are discussed in the Final EIS. We will briefly describe the status of these facilities in the EA.

In addition, Calypso LNG, LLC, an affiliate of Calypso, recently proposed to construct and operate a deepwater port approximately 10 miles offshore of Port Everglades for the purpose of receiving and sending out new supplies of LNG through an interconnect with the Calypso U.S. Pipeline Project. As defined in the Deepwater Port Act of 1974 (as amended by the Maritime Transportation Security Act of 2002 to include natural gas facilities), deepwater ports include a fixed or floating structure (other than a vessel) or a group of structures that are located off the coast of the U.S. and that are used as a port or terminal for the transportation, storage, and further handling of oil or natural gas. This legislation requires that the DOT (U.S. Maritime Administration) and the U.S. Coast Guard (Coast Guard) regulate the licensing, siting, construction, and operation of deepwater ports for natural gas in Federal waters. The Coast Guard is currently assessing the completeness of the application that was filed by Calypso LNG, LLC in March 2006. The FERC has no jurisdiction over the siting or authorization of the proposed deepwater port facilities, but it is anticipated that the Coast Guard would adopt the Final EIS for the Calypso Project, as well as the EA for the proposed modifications, as part of its NEPA review for the deepwater port project.

Calypso reports that it is possible that the proposed deepwater port, if authorized and constructed, could provide a source of natural gas for the proposed Project, in lieu of natural gas that would be received from the nonjursidictional Bahamian LNG terminal and pipeline. In that event, the pipeline segment extending from the deepwater port location to the exclusive economic zone boundary would not be required. We will briefly describe the location, status, and potential cumulative effects of the proposed deepwater port facilities in the EA.

Public Participation

You can make a difference by providing us with your specific comments or concerns about the Project. By becoming a commentor, your concerns will be addressed in the EA and considered by the Commission. Your comments should focus on the potential environmental effects of the proposal and measures to avoid or lessen environmental impact. The more specific your comments, the more useful they will be. To ensure that your comments are timely and properly recorded, please carefully follow these instructions:

• Send an original and two copies of your letter to: Magalie R. Salas, Secretary, Federal Energy Regulatory Commission, 888 First St., NE., Room 1A, Washington, DC 20426.

• Label one copy of the comments for the attention of Gas Branch 3.

• Reference Docket No. CP01-409-000 on the original and both copies.

• Mail your comments so that they will be received in Washington, DC on or before July 14, 2006.

Please note that we are continuing to experience delays in mail deliveries from the U.S. Postal Service. As a result, we will include all comments that we receive within a reasonable time frame in our environmental analysis of this Project. However, the Commission strongly encourages electronic filing of any comments in response to this Notice of Intent. For information on electronic filing of comments, please see the instructions on the Commission's Internet Web site at http://www.ferc.gov under the “e-Filing” link and the link to the User's Guide, as well as information in 18 CFR 385.2001(a)(1)(iii). Before you can submit comments you will need to create a free account, which can be created on-line.

Becoming an Intervenor

In addition to involvement in the EA scoping process, you may want to become an official party to the proceeding, or “intervenor”. To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed Project. This includes all landowners who are potential right-of-way grantors, whose property may be used temporarily for project purposes, or who own homes within distances defined in the Commission's regulations of certain aboveground facilities. By this notice we are also asking governmental agencies, especially those in Appendix 3, to express their interest in becoming cooperating agencies for the preparation of the EA.

If you received this notice, you are on the environmental mailing list for this Project. If you do not want to send comments at this time, but still want to remain on our mailing list, please return the Information Request (Appendix 2). If you do not return the Information Request, you will be removed from the Commission's environmental mailing list.

Availability of Additional Information

Additional information about the Project is available from the Commission's Office of External Affairs, at 1-866-208-FERC (3372) or on the FERC Internet Web site (http://www.ferc.gov). Using the “eLibrary link,” select “General Search” and enter the Project docket number excluding the last three digits (i.e., CP01-409) in the “Docket Number” field. Be sure you have selected an appropriate date range. For assistance, please contact FERC Online Support at FERCOnlineSupport@ferc.gov or toll free at 1-866-208-3676, or TTY, contact (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Finally, public meetings or site visits, if conducted, would be posted on the Commission's calendar located at http://www.ferc.gov/EventCalendar/EventsList.aspx along with other related information.

Magalie R. Salas,
Secretary.

[FR Doc. E6-9385 Filed 6-15-06; 8:45 am]

BILLING CODE 6717-01-P